INTERNATIONAL TRADE COMMISSION

[Investigation No. 332-600]

USMCA Automotive Rules of Origin: Economic Impact and Operation, 2025 Report

ACTION: Notice of investigation.

SUMMARY: In accordance with section 202A(g)(2) of the United States-Mexico-Canada Agreement Implementation Act (“USMCA Implementation Act”), the U.S. International Trade Commission (Commission) has instituted Investigation No. 332-600, USMCA Automotive Rules of Origin: Economic Impact and Operation, 2025 Report, for the purpose of preparing the 2025 report.

DATES: July 1, 2025: Transmittal of Commission report to the President and Congress.

ADDRESSES: All Commission offices, including the Commission's hearing rooms, are located in the U.S. International Trade Commission Building, 500 E Street SW, Washington, DC 20436. All written submissions should be addressed to the Secretary, U.S. International Trade Commission, 500 E Street SW, Washington, DC 20436. The public record for this investigation may be viewed on the Commission's electronic docket (EDIS) at https://edis.usitc.gov.

FOR FURTHER INFORMATION CONTACT: Project Leader Mitch Semanik (mitchell.semanik@usitc.gov or 202-205-2034), or Deputy Project Leaders Nathan Lotze (202-205-3231 or nathan.lotze@usitc.gov) and Aaron Woodward (202-205-2663 or aaron.woodward@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (202-205-3404 or jennifer.andberg@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION:

Background: The 2025 report will be the second of five reports that section 202A(g)(2) of the USMCA Implementation Act (19 U.S.C. 4532(g)(2)) requires that the Commission provide on the USMCA automotive rules of origin (ROOs) and their impact on the U.S. economy, effect on U.S. competitiveness, and relevancy considering recent technology changes. In particular, the USMCA Implementation Act requires that the Commission report on the following:

(1) The economic impact of the USMCA automotive ROOs on U.S. gross domestic product (GDP); U.S. exports and imports; U.S. aggregate employment and employment opportunities; production, investment, use of productive facilities, and profit levels in the U.S. automotive industries and other pertinent industries; wages and employment of workers in the U.S. automotive sector; and the interests of U.S. consumers.

(2) The operation of the ROOs and their effects on the competitiveness of the United States with respect to production and trade in automotive goods, taking into account developments in technology, production processes, or other related matters.

(3) Whether the ROOs are relevant in light of technological changes in the United States.

(4) Such other matters as the Commission considers relevant to the economic impact of the ROOs, including prices, sales, inventories, patterns of demand, capital investment, obsolescence of equipment, and diversification of production in the United States.

As part of this investigation, the Commission intends to conduct a survey, and will post the associated questionnaire on its website at a later date. The Commission also intends to hold a public hearing in connection with this investigation and will announce the hearing details at a later date.

The USMCA Implementation Act requires that the Commission transmit its report on July 1, 2025, two years following submission of its previous report, USMCA Automotive Rules of Origin: Economic Impact and Operation, 2023 Report. The Commission is required to submit reports on the USMCA automotive ROOs every two years until 2031, for a total of five reports.

By order of the Commission.
Issued: November 15, 2023.
Lisa Barton,
Secretary to the Commission.

[FR Doc. 2023-25680 Filed 11-20-23; 8:45 am]

BILLING CODE 7020-02-P